DEPARTMENT OF DEFENSE

Office of the Secretary

[Docket ID: DOD-2025-HA-0343]

Proposed Collection; Comment Request

AGENCY: Office of the Assistant Secretary of Defense for Health Affairs (OASD(HA)), Department of Defense (DoD).

ACTION: 60-Day information collection notice.

SUMMARY: In compliance with the Paperwork Reduction Act of 1995, the OASD(HA) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by September 29, 2025.

ADDRESSES: You may submit comments, identified by docket number and title, by any of the following methods:

Federal eRulemaking Portal: https://www.regulations.gov. Follow the instructions for submitting comments.

Mail: Department of Defense, Office of the Assistant to the Secretary of Defense for Privacy, Civil Liberties, and Transparency, 4800 Mark Center Drive, Mailbox #24, Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to, Assistant Secretary of Defense for Health Affairs, 1200 Defense Pentagon, Washington, DC 20301, Ms. Kimberly Lahm, dha.ncr.healthcare-ops.mbx.ha-womens-health-policy@health.mil.

SUPPLEMENTARY INFORMATION:

Title; Associated Form; and OMB Number: Understanding Service Member Experiences with Family Planning; OMB Control Number 0704-SMFP.

Needs and Uses: Building on prior experience executing the DoD Women's Reproductive Health Survey (WRHS) and other research on the health and health behaviors of service members (e.g., the Health Related Behaviors Survey [HRBS]), RAND National Defense Research Institute (NDRI) will conduct a series of focus groups with men and women across DoD service branches (Air Force, Army, Marine Corps, Navy, and Space Force) to augment this survey data and better understand how service members experience family planning both within the Military Health System and via community providers. These focus groups will also gather information on service members' experiences with any new policies related to reproductive health.

This study will highlight areas related to family planning that may threaten DoDs ability to field a ready and lethal force. It will also point to areas where DoD may need to augment or develop care, programs, services, or policies that provide needed reproductive health care and family planning services to the force in order to maintain and enhance health, readiness, retention, and lethality.

Affected Public: Individuals and households.

Annual Burden Hours: 4,800.

Number of Respondents: 4,800.

Responses per Respondent: 1.

Annual Responses: 4,800.

Average Burden per Response: 1 hour.

Frequency: Once.

The purpose of the data collection effort is to better understand service members experiences with family planning services provided by both DoD and community providers. Respondents include approximately 4,800 active duty service members from all service branches (below the rank of flag officer) at 24 CONUS installations. Data will be collected via 60-minute focus group. These focus groups will be in-person, conducted separately by gender (i.e., men vs women) and rank (i.e., E1-E4, E5-E6, E7-E9/W1-W5, O1-O3, O4-O5, O6). Each group will be led by one facilitator and include one notetaker. Consent will be obtained verbally at the beginning of each session and each participant will receive an information sheet containing the consent information. A recruitment flyer will be used to assist installation POCs with recruitment.

Dedicated notetakers will take verbatim notes during each focus group and discussion. These notes will be immediately cleaned to remove any identifying information (e.g., names, titles). Notes will be entered into a COTS software package for analyzing qualitative data (e.g., NVivo) and will be stored on RAND-issued laptops and RAND servers, both of which require two-factor authentication. A Data Safety Plan has been approved for the study.

A six-item post-focus group survey will also be given to participants. The purpose is to collect sociodemographic and military characteristics that will be used to understand the representativeness of participants compared to the larger active-duty force. The survey will be paper-and-pencil and is anonymous. It should take no more than two minutes to complete. Data from the survey will be hand-entered into Excel and analyzed using the same software.

Dated: July 25, 2025.
Aaron T. Siegel,
Alternate OSD Federal Register Liaison Officer, Department of Defense.

[FR Doc. 2025-14324 Filed 7-28-25; 8:45 am]

BILLING CODE 6001-FR-P